DEPARTMENT OF COMMERCE

International Trade Administration

[A-570-126]

Non-Refillable Steel Cylinders From the People's Republic of China: Preliminary Results and Partial Rescission of the Antidumping Duty Administrative Review; 2023-2024

AGENCY: Enforcement and Compliance, International Trade Administration, Department of Commerce.

SUMMARY: The U.S. Department of Commerce (Commerce) preliminarily determines that Wuyi Xilinde Machinery Manufacture Co., Ltd. (Wuyi Xilinde) made sales of non-refillable steel cylinders (non-refillable cylinders) from the People's Republic of China (China) at less than normal value (NV) during the period of review (POR) May 1, 2023, through April 30, 2024. Additionally, Commerce intends to rescind the review, in part, with respect to three companies. Interested parties are invited to comment on the preliminary results of this review.

DATES: Applicable September 11, 2025.

FOR FURTHER INFORMATION CONTACT: Matthew Palmer, AD/CVD Operations, Office III, Enforcement and Compliance, International Trade Administration, U.S. Department of Commerce, 1401 Constitution Avenue NW,Washington, DC 20230; telephone: (202) 482-1678.

SUPPLEMENTARY INFORMATION:

Background

On May 11, 2021, Commerce published the Order on non-refillable cylinders from China.¹ On July 5, 2024, pursuant to timely requests for review, Commerce published the notice of initiation of the third administrative review of the Order.² Commerce initiated this administrative review covering the following four exporters of subject merchandise: Ningbo Eagle Machinery & Technology Co., Ltd. (Ningbo Eagle); Sanjiang Kai Yuan Co., Ltd. (Sanjiang Kai Yuan); Wuyi Xilinde Machinery Manufacture Co., Ltd. (Wuyi Xilinde); and Zhejiang Kin-Shine Technology Co., Ltd. (Zhejiang Kin-Shine).³

¹ See Certain Non-Refillable Steel Cylinders from the People's Republic of China: Amended Final Antidumping Duty Determination and Antidumping Duty and Countervailing Duty Orders, 86 FR 25839 (May 11, 2021) (Order).

² See Initiation of Antidumping and Countervailing Duty Administrative Reviews, 89 FR 55567 (July 5, 2024) (Initiation Notice).

³ Id., 89 FR 55574.

On July 22, 2024, Commerce tolled certain deadlines in this administrative proceeding by seven days.⁴ On December 9, 2024, Commerce tolled certain deadlines in this administrative review by 90 days.⁵ On April 22, 2025, Commerce extended the deadline for issuing the preliminary results of this administrative review by 61 days.⁶ On June 11, 2025, Commerce issued a second extension of the preliminary deadline by 59 days.⁷ Accordingly, the deadline for these preliminary results of review is now September 5, 2025.

⁴ See Memorandum, “Tolling of Deadlines for Antidumping and Countervailing Duty Proceedings,” dated July 22, 2024.

⁵ See Memorandum, “Tolling of Deadlines for Antidumping and Countervailing Duty Proceedings,” dated December 9, 2024.

⁶ See Memorandum, “Extension of Deadline for Preliminary Results of Antidumping Duty Administrative Review,” dated April 22, 2025.

⁷ See Memorandum, “Second Extension of Deadline for Preliminary Results of Antidumping Duty Administrative Review,” dated June 11, 2025.

For a complete description of the events that followed the initiation of this administrative review, see the Preliminary Decision Memorandum.⁸ A list of topics included in the Preliminary Decision Memorandum is included as an appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be found at https://access.trade.gov/public/FRNoticesListLayout.aspx.

⁸ See Memorandum, “Decision Memorandum for the Preliminary Results of the Antidumping Duty Administrative Review of Non-Refillable Steel Cylinders from the People's Republic of China, 2023-2024,” dated concurrently with, and hereby adopted by, this notice (Preliminary Decision Memorandum).

Scope of the Order

The merchandise covered by this Order is certain seamed (welded or brazed), non-refillable steel cylinders meeting the requirements of, or produced to meet the requirements of, U.S. Department of Transportation (USDOT) Specification 39, TransportCanada Specification 39M, or United Nations pressure receptacle standard ISO 11118. A full description of the scope of the Order is provided in the Preliminary Decision Memorandum.⁹

⁹ Id.

Partial Rescission of Review

As noted above, we initiated this review with respect to four companies.¹⁰ During the course of the review, we selected one mandatory respondent, i.e., Wuyi Xilinde. Consequently, there are three companies upon which a review was requested, and which were not selected for individual examination.

¹⁰ See Initiation Notice.

Pursuant to 19 CFR 351.213(d)(3), Commerce will rescind an administrative review when there are no reviewable suspended entries. Based on our analysis of the U.S. Customs and Border Protection (CBP) information, the three remaining companies listed in the Initiation Notice (i.e., Ningbo Eagle, Sanjiang Kai Yuan, and Zhejiang Kin-Shin) had no entries of subject merchandise during the POR.¹¹

¹¹ Id., 89 FR at 55574; see also Memorandum, “Release of U.S. Customs and Border Protection Data and Notice of Intent to Rescind Review, in Part,” dated July 12, 2024 (CBP Data Memorandum).

On July 12, 2024, Commerce notified interested parties of its intent to rescind the review with respect to the companies which had no reviewable suspended entries of subject merchandise during the POR.¹² Additionally, Sanjiang Kai Yuan notified Commerce that it made no shipments of the subject merchandise to the United States during the POR.¹³ No parties commented on our intent to rescind.¹⁴ As such, Commerce is rescinding this review with respect to Ningbo Eagle, Sanjiang Kai Yuan, and Zhejiang Kin-Shine in accordance with 19 CFR 351.213(d)(3).

¹² See CBP Data Memorandum.

¹³ See Sanjiang Kai Yuan's No Shipment Certification.

¹⁴ See CBP Data Memorandum.

The China-Wide Entity

Under Commerce's policy regarding the conditional review of the China-wide entity,¹⁵ the China-wide entity will not be under review unless a party specifically requests, or Commerce self-initiates, a review of the entity. Because no party requested a review of the China-wide entity in this review, the entity is not under review, and the entity's rate (i.e., 112.21 percent) is not subject to change.

¹⁵ See Antidumping Proceedings: Announcement of Change in Department Practice for Respondent Selection in Antidumping Duty Proceedings and Conditional Review of the Nonmarket Economy Entity in NME Antidumping Duty Proceedings, 78 FR 65963 (November 4, 2013).

Methodology

Commerce is conducting this administrative review in accordance with section 751(a)(1)(B) of the Tariff Act of 1930, as amended (the Act). We calculated export prices in accordance with section 772 of the Act. Because Commerce has determined that China is a non-market economy country within the meaning of section 771(18) of the Act, Commerce calculated NV in accordance with section 773(c) of the Act. For a full description of the methodology underlying the preliminary results of this review, see the Preliminary Decision Memorandum.

Preliminary Results of Review

We preliminarily determine that the following estimated weighted-average dumping margin exists for the period May 1, 2023, through April 30, 2024:

Exporter | Weighted-average dumping margin (percent)
Wuyi Xilinde Machinery Manufacture Co., Ltd | 71.89

Disclosure

Commerce intends to disclose the calculations performed in connection with these preliminary results to interested parties within five days of any public announcement, or, if there is no public announcement, within five days of the date of publication of this notice in the Federal Register in accordance with 19 CFR 351.224(b).

Verification

Pursuant to 19 CFR 351.307(b)(1)(iv) and (v), Commerce intends to verify the information submitted by Wuyi Xilinde prior to issuing the final results of this review.

Public Comment

Upon completion of verification and issuance of the verification report, Commerce will notify parties of the schedule for submitting case briefs or other written comments regarding the preliminary results and verification findings for consideration in the final results of review.¹⁶ Rebuttal briefs, limited to issues raised in case briefs, may be submitted no later than five days after the deadline for case briefs.¹⁷ Pursuant to 19 CFR 351.309(c)(2) and (d)(2), parties who submit case or rebuttal briefs in this review are encouraged to submit with each argument: (1) a statement of the issue; (2) a brief summary of the argument; and (3) a table of authorities.

¹⁶ See 19 CFR 351.309(c).

¹⁷ See 19 CFR 351.309(d); see also Administrative Protective Order, Service, and Other Procedures in Antidumping and Countervailing Duty Proceedings, 88 FR 67069, 67077 (September 29, 2023) (APO and Service Final Rule).

As provided to 19 CFR 351.309(c)(2) and (d)(2), in prior proceedings we have encouraged interested parties to provide an executive summary of their brief that should be limited to five pages total, including footnotes. In this administrative review, we instead request that interested parties provide at the beginning of their briefs a public, executive summary for each issue raised in their briefs.¹⁸ Further, we request that interested parties limit their executive summary of each issue to no more than 450 words, not including citations. We intend to use the public executive summaries as the basis of the comment summaries included in the issues and decision memorandum that will accompany the final results in this administrative review. We request that interested parties include footnotes for relevant citations in the public executive summary of each issue. Case and rebuttal briefs should be filed using ACCESS.¹⁹ Note that Commerce has amended certain of its requirements pertaining to the service of documents in 19 CFR 351.303(f).²⁰

¹⁸ We use the term “issue” here to describe an argument that Commerce would normally address in a comment of the Issues and Decision Memorandum.

¹⁹ See, generally, 19 CFR 351.303.

²⁰ See APO and Service Final Rule.

Pursuant to 19 CFR 351.310(c), interested parties who wish to request a hearing, limited to issues raised in the case and rebuttal briefs, must submit a written request to the Assistant Secretary for Enforcement and Compliance, U.S. Department of Commerce, filed electronically via Commerce's electric records system, ACCESS. An electronically-filed request must be received successfully in its entirety by 5:00 p.m. Eastern Time within 30 days after the date of publication of this notice.²¹ Requests should contain the party's name, address, and telephone number, the number of participants, whether any participant is a foreign national, and a list of the issues to be discussed. If a request for a hearing is made, Commerce intends to hold the hearing at a time and date to be determined.²² Parties should confirm by telephone the date and time of the hearing two days before the scheduled date.

²¹ See 19 CFR 351.310(c).

²² See 19 CFR 351.310(d).

Unless otherwise extended, we intend to issue the final results of this administrative review, which will include the results of our analysis of the issues raised in the case and rebuttal briefs, within 120 days of publication of these preliminary results in the Federal Register, pursuant to section 751(a)(3)(A) of the Act and 19 CFR 351.213(h).

Assessment Rates

Upon issuance of the final results, Commerce will determine, and CBP shall assess, antidumping duties on all appropriate entries covered by this review, in accordance with 19 CFR 351.212(b)(1). Commerce intends to issue assessment instructions to CBP no earlier than 35 days after the publication of the final results of this review in the Federal Register. If a timely summons is filed at the U.S. Court of International Trade, the assessment instructions will direct CBP not to liquidate relevant entries until the time for parties to file a request for a statutory injunction has expired (i.e., within 90 days of publication).

We will calculate importer/customer-specific assessment rates equal to the ratio of the total amount of dumping calculated for examined sales to a particular importer/customer to the total entered value of those sales, in accordance with 19 CFR 351.212(b)(1).²³ Where the respondent reported reliable entered values, Commerce intends to calculate importer/customer-specific ad valorem assessment rates by dividing the total amount of dumping calculated for all reviewed U.S. sales to the importer/customer by the total entered value of the merchandise sold to the importer/customer.²⁴ Where the respondents did not report entered values, Commerce will calculate importer/customer-specific assessment rates by dividing the total amount of dumping calculated for all reviewed U.S. sales to the importer/customer by the total quantity of those sales. Commerce will calculate an estimated ad valorem importer/customer-specific assessment rate to determine whether the per-unit assessment rate is de minimis; however, Commerce will use the per-unit assessment rate where entered values were not reported.²⁵ Where an importer/customer-specific ad valorem assessment rate is not zero or de minimis, Commerce will instruct CBP to collect the appropriate duties at the time of liquidation. Where either the respondents' ad valorem weighted-average dumping margin is zero or de minimis, or an importer/customer-specific ad valorem assessment rate is zero or de minimis,²⁶ Commerce will instruct CBP to liquidate the appropriate entries without regard to antidumping duties.

²³ In these preliminary results, Commerce applied the assessment rate calculation method adopted in Antidumping Proceedings: Calculation of the Weighted-Average Dumping Margin and Assessment Rate in Certain Antidumping Proceedings: Final Modification, 77 FR 8101 (February 14, 2012).

²⁴ See 19 CFR 351.212(b)(1).

²⁵ Id.

²⁶ See 19 CFR 351.106(c)(2).

Pursuant to a refinement to Commerce's assessment practice, for sales that were not reported in the U.S. sales database submitted by a respondent individually examined during this review, Commerce will instruct CBP to liquidate the entry of such merchandise at the dumping assessment rate assigned to the China-wide entity.²⁷

²⁷ For a full discussion of this practice, see Non-Market Economy Antidumping Proceedings: Assessment of Antidumping Duties, 76 FR 65694 (October 24, 2011).

For the companies for which this review is rescinded with these preliminary results, we will instruct CBP to assess antidumping duties on all appropriate entries at a rate equal to the cash deposit of estimated antidumping duties required at the time of entry, or withdrawal from warehouse, for consumption, during the POR, in accordance with 19 CFR 351.212(c)(l)(i). For the companies rescinded from review, Commerce intends to issue assessment instructions to CBP 35 days after the publication of this notice in the Federal Register.

In accordance with section 751(a)(2)(C) of the Act, the final results of this review shall be the basis for the assessment of antidumping duties on entries of merchandise covered by the final results of this review and for future deposits of estimated antidumping duties, where applicable.

Cash Deposit Requirements

The following cash deposit requirements will be effective upon publication of the final results of this review for all shipments of the subject merchandise from China entered, or withdrawn from warehouse, for consumption on or after the date of publication of the notice of the final results of administrative review in the Federal Register, as provided for by section 751(a)(2)(C) of the Act: (1) for the companies that have a separate rate, the cash deposit rate will be that rate established in the final results of this review (except, if the rate is de minimis, then a cash deposit rate of zero will be required); (2) for previously investigated or reviewed Chinese and non-Chinese exporters for which a review was not requested and that received a separate rate in a prior segment of this proceeding, the cash deposit rate will continue to be the existing exporter-specific rate; (3) for all Chinese exporters of subject merchandise that have not been found to be entitled to a separate rate, the cash deposit rate will be the rate for the China-wide entity (i.e., 112.21 percent); and (4) for all non-Chinese exporters of subject merchandise that have not received their own rate, the cash deposit rate will be the rate applicable to the Chinese exporter that supplied that non-Chinese exporter. These cash deposit requirements, when imposed, shall remain in effect until further notice.

Final Results of Review

Unless otherwise extended, Commerce intends to issue the final results of this administrative review, which will include the results of its analysis of issues raised in case and rebuttal briefs, within 120 days of these preliminary results of review in the Federal Register, pursuant to 751(a)(3)(A) of the Act.

Notification to Importers

This notice also serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Notification to Interested Parties

We are issuing and publishing these preliminary results in accordance with sections 751(a)(1) and 777(i)(1) of the Act, and 19 CFR 351.221(b)(4).

Dated: September 5, 2025.
Christopher Abbott,
Deputy Assistant Secretary for Policy and Negotiations, performing the non-exclusive functions and duties of the Assistant Secretary for Enforcement and Compliance.

Appendix

List of Topics Discussed in the Preliminary Decision Memorandum

I. Summary

II. Background

III. Scope of the Order

IV. Partial Recission of Administrative Review

V. Discussion of the Methodology

VI. Currency Conversion

VII. Recommendation

[FR Doc. 2025-17462 Filed 9-10-25; 8:45 am]

BILLING CODE 3510-DS-P